DEPARTMENT OF TRANSPORTATION

Federal Motor Carrier Safety Administration

[Docket No. FMCSA-2007-26653]

Qualification of Drivers; Exemption Applications; Vision

AGENCY: Federal Motor Carrier Safety Administration (FMCSA), DOT.

ACTION: Notice of applications for exemptions; request for comments.

SUMMARY: FMCSA announces receipt of applications from 28 individuals for exemptions from the vision requirement in the Federal Motor Carrier Safety Regulations. If granted, the exemptions would enable these individuals to qualify as drivers of commercial motor vehicles (CMVs) in interstate commerce without meeting the Federal vision standard.

DATES: Comments must be received on or before March 28, 2007.

ADDRESSES: You may submit comments identified by Department of Transportation (DOT) Docket Management System (DMS) Docket Number FMCSA-2006-26653 using any of the following methods:

• Web Site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket number for this Notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19477; Apr. 11, 2000). This information is also available at http://dms.dot.gov.

FOR FURTHER INFORMATION CONTACT: Dr. Mary D. Gunnels, Chief, Physical Qualifications Division, (202) 366-4001, maggi.gunnels@dot.gov, FMCSA, Department of Transportation, 400 Seventh Street, SW., Room 8301, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 28 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Michael W. Anderson

Mr. Anderson, age 48, has loss of vision in his left eye due to a retinal detachment in 1998. The best corrected visual acuity in his right eye is 20/20 and in the left, 20/400. Following an examination in 2006, his ophthalmologist noted, “In my opinion, Mr. Anderson's vision is stable and is probably sufficient for driving tasks required to operate a commercial vehicle.” Mr. Anderson reported that he has driven straight trucks for 25 years, accumulating 715,000 miles. He holds a Class A Commercial Driver's License (CDL) from New Mexico. His driving record for the last 3 years shows no crashes and no convictions for moving violations in a CMV.

Manassah E. Baker

Mr. Baker, 54, has a prosthetic right eye due to a traumatic injury sustained as a child. The visual acuity in his left eye is 20/20. Following an examination in 2006, his ophthalmologist noted, “In my medical opinion, he has sufficient vision to perform the driving tasks required to operate a commercial vehicle.” Mr. Baker reported that he has driven straight trucks for 2 years, accumulating 50,000 miles, and tractor-trailer combinations for 20 years, accumulating 2.1 million miles. He holds a Class A CDL from Florida. His driving record for the last 3 years shows no crashes and no convictions for moving violations in a CMV.

Thomas H. Barnhart, Jr.

Mr. Barnhart, 59, has a corneal scar in his right eye due to a traumatic injury. The best corrected visual acuity in his right eye is 20/50 and in the left, 20/20. Following an examination in 2006, his optometrist noted, “Mr. Barnhart appears to have sufficient visual acuity and visual fields to operate a commercial vehicle.” Mr. Barnhart reported that he has driven straight trucks for 40 years, accumulating 4 million miles, tractor-trailer combinations for 18 years, accumulating 1.1 million miles, and buses for 3 years, accumulating 30,000 miles. He holds a Class A CDL from Delaware. His driving record for the last 3 years shows no crashes and no convictions for moving violations in a CMV.

Michael R. Bradford

Mr. Bradford, 49, has loss of vision in his right eye due to exotropia with associated amblyopia since childhood. The best corrected visual acuity in his right eye is 20/80 and in the left, 20/20. Following an examination in 2006, his optometrist noted, “I certify that since Mr. Bradford has exhibited competent driving by having a perfect driving record and since his vision has not changed in at least 7 years that he has been a patient of mine, Mr. Bradford has sufficient vision to operate a commercial vehicle.” Mr. Bradford reported that he has driven straight trucks for 14 years, accumulating 245,000 miles, and tractor-trailer combinations for 14 years, accumulating 805,000 miles. He holds a Class A CDL from Maryland. His driving record for the last 3 years shows no crashes and no convictions for moving violations in a CMV.

Jeanpierre Brefort

Mr. Brefort, 55, has had amblyopia in his right eye since childhood. The visual acuity in his right eye is hand-movement vision and in the left, 20/20. Following an examination in 2007, his ophthalmologist noted, “It is my opinion that Mr. Brefort has sufficient vision to perform the driving tasks required to operate a commercial motor vehicle based on stated requirements.” Mr. Brefort reported that he has driven tractor-trailer combinations for 6 years, accumulating 60,000 miles. He holds a Class A CDL from Connecticut.

His driving record for the last 3 years shows no crashes and no convictions for moving violations in a CMV.

John J. Caricola, Jr.

Mr. Caricola, 53, has aphakia and maculopathy in his left eye due to a traumatic injury sustained as a child. The best corrected visual acuity in his right eye is 20/15 and in the left, 20/400. Following an examination in 2006, his optometrist noted, “In my medical opinion, I certify that Mr. Caricola does not have a visual impairment that compromises his ability to operate a commercial motor vehicle.” Mr. Caricola reported that he has driven tractor-trailer combinations for 32 years, accumulating 4 million miles. He holds a Class A CDL from North Carolina. His driving record for the last 3 years shows no crashes and one conviction for a moving violation in CMV, failure to obey a traffic sign.

Paul W. Caulfield

Mr. Caulfield, 44, has loss of vision in his right eye due to a traumatic injury sustained 23 years ago. The best corrected visual acuity in his right eye is 20/80 and in the left, 20/20. Following an examination in 2006, his optometrist noted, “I feel that William has sufficient vision to drive a commercial vehicle.” Mr. Caulfield reported that he has driven straight trucks for 10 years, accumulating 150,000 miles. He holds a Class D operator's license from Delaware. His driving record for the last 3 years shows no crashes and no convictions for moving violations in a CMV.

Denice M. Engle

Ms. Engle, 40, has a prosthetic right eye due to a traumatic injury sustained in 2003. The visual acuity in her left eye is 20/15. Following an examination in 2006, her ophthalmologist noted, “In my medical opinion, she has sufficient vision to perform the driving tasks required to operate a commercial vehicle.” Ms. Engle reported that she has driven straight trucks for 3 years, accumulating 68,640 miles, and tractor-trailer combinations for 3 years, accumulating 10,800 miles. She holds a Class A CDL from Georgia. Her driving record for the last 3 years shows no crashes and no convictions for moving violations in a CMV.

John B. Gregory

Mr. Gregory, 67, has complete loss of vision in his right eye due to a traumatic injury sustained at age 5. The best corrected visual acuity in his left eye is 20/20. Following an examination in 2006, his ophthalmologist noted, “In my medical opinion, Mr. Gregory does have sufficient vision to perform the driving tasks required to operate a commercial vehicle.” Mr. Gregory reported that he has driven straight trucks for 50 years, accumulating 2.5 million miles, and tractor-trailer combinations for 33 years, accumulating 5.8 million miles. He holds a Class A CDL from Arkansas. His driving record for the last 3 years shows no crashes and no convictions for moving violations in a CMV.

Gary D. Hallman

Mr. Hallman, 44, has had amblyopia in his left eye since birth. The best corrected visual acuity in his right eye is 20/20 and in the left, 20/200. Following an examination in 2006, his optometrist noted, “Vision is sufficient to operate a commercial vehicle.” Mr. Hallman reported that he has driven straight trucks for 10 years, accumulating 500,000 miles, and tractor-trailer combinations for 8 years, accumulating 400,000 miles. He holds a Class D operator's license from Alabama. His driving record for the last 3 years shows no crashes and no convictions for moving violations in a CMV.

Wade M. Hillmer

Mr. Hillmer, 25, has had amblyopia in his left eye since childhood. The best corrected visual acuity in his right eye is 20/20 and in the left, 20/80. Following an examination in 2006, his optometrist noted, “Therefore, it is my medical opinion, that Wade has sufficient vision in both eyes to perform driving tasks required to operate a commercial vehicle.” Mr. Hillmer reported that he has driven straight trucks for 4 years, accumulating 12,000 miles, and tractor-trailer combinations for 4 years, accumulating 3,200 miles. He holds a Class A CDL from Minnesota. His driving record for the last 3 years shows no crashes and no convictions for moving violations in a CMV.

Michael W. Jensen

Mr. Jensen, 45, has had amblyopia in his left eye since childhood. The best corrected visual acuity in his right eye is 20/20 and in the left, 20/60. Following an examination in 2006, his ophthalmologist noted, “From my evaluation, Michael Jensen has sufficient vision to perform the driving tasks required to operate a commercial vehicle.” Mr. Jensen reported that he has driven straight trucks for 24 years, accumulating 110,400 miles. He holds a Class C operator's license from California. His driving record for the last 3 years shows no crashes and no convictions for moving violations in a CMV.

Jorge Lopez

Mr. Lopez, 55, has had amblyopia in his right eye since birth. The best corrected visual acuity in his right eye is 20/60 and in the left, 20/20. Following an examination in 2006, his optometrist noted, “Mr. Lopez, in my medical opinion, has sufficient vision to perform the driving tasks required to operate a commercial vehicle.” Mr. Lopez reported that he has driven straight trucks for 29 years, accumulating 406,000 miles, and tractor-trailer combinations for 5 years, accumulating 300,000 miles. He holds a Class A CDL from Ohio. His driving record for the last 3 years shows no crashes and no convictions for moving violations in a CMV.

Albert E. Marbut

Mr. Marbut, 61, has had complete loss of vision in his right eye due to an opaque cornea caused by neovascularization since 1991. The best corrected visual acuity in his left eye is 20/20. Following an examination in 2006, his optometrist noted, “It is in my medical opinion that Mr. Marbut has sufficient vision to perform the driving tasks required to operate a commercial vehicle.” Mr. Marbut reported that he has driven straight trucks for 12 years, accumulating 240,000 miles, and tractor-trailer combinations for 20 years, accumulating 1.2 million miles. He holds a Class A CDL from Alabama. His driving record for the last 3 years shows no crashes and no convictions for moving violations in a CMV.

Michael J. McGregan

Mr. McGregan, 39, has loss of vision in his right eye due to a traumatic injury sustained as a child. The best corrected visual acuity in his right eye is 20/200 and in the left, 20/20. Following an examination in 2006, his optometrist noted, “Mr. McGregan has sufficient vision to perform the driving tasks required to operate a commercial vehicle.” Mr. McGregan reported that he has driven straight trucks for 21 years, accumulating 163,800 miles, and tractor-trailer combinations for 21 years, accumulating 163,800 miles. He holds a Class A CDL from Florida. His driving record for the last 3 years shows no crashes and no convictions for moving violations in a CMV.

Willie E. Nichols

Mr. Nichols, 53, has had amblyopia in his left eye since birth. The best corrected visual acuity in his right eye is 20/20 and in the left, count-finger vision. Following an examination in 2006, his ophthalmologist noted, “It is my medical impression, that Mr. Nichols can operate a commercial vehicle without visual difficulties.” Mr. Nichols reported that he has driven straight trucks for 5 years, accumulating 150,000 miles, and tractor-trailer combinations for 26 years, accumulating 3.9 million miles. He holds a Class A CDL from Florida. His driving record for the last 3 years shows no crashes and no convictions for moving violations in a CMV.

John P. Perez

Mr. Perez, 48, has macular scarring in his left eye due to a traumatic injury sustained in 1978. The visual acuity in his right eye is 20/20 and in the left, 20/200. Following an examination in 2006, his ophthalmologist noted, “Mr. Perez has adequate vision to drive a commercial vehicle.” Mr. Perez reported that he has driven straight trucks for 10 years, accumulating 250,000 miles, and tractor-trailer combinations for 20 years, accumulating 1.1 million miles. He holds a Class A CDL from Florida. His driving record for the last 3 years shows no crashes and no convictions for moving violations in a CMV.

Robert M. Pickett II

Mr. Pickett, 31, has macular scarring in his left eye due to a traumatic injury sustained 16 years ago. The visual acuity in his right eye is 20/20 and in the left, count-finger vision. Following an examination in 2006, his ophthalmologist noted, “Yes, I believe, Mr. Pickett has sufficient vision to perform the driving tasks required to operate a commercial vehicle.” Mr. Pickett reported that he has driven straight trucks for 10 years, accumulating 400,000 miles. He holds a Class B CDL from Michigan. His driving record for the last 3 years shows no crashes and no convictions for moving violations in a CMV.

Jeffrey W. Pike, Jr.

Mr. Pike, 30, has a cataract in his right eye due to a traumatic injury sustained as a child. The best corrected visual acuity in his right eye is light perception and in the left, 20/20. Following an examination in 2006, his optometrist noted, “In my medical opinion, he has sufficient vision to perform driving tasks required to operate a commercial vehicle.” Mr. Pike reported that he has driven straight trucks for 12 years, accumulating 480,000 miles, and tractor-trailer combinations for 8 years, accumulating 180,000 miles. He holds a Class A CDL from Minnesota. His driving record for the last 3 years shows no crashes and no convictions for moving violations in a CMV.

Donald V. Ports

Mr. Ports, 38, has had amblyopia in his right eye since birth. The best corrected visual acuity in his right eye is 20/80 and in the left, 20/25. Following an examination in 2006, his ophthalmologist noted, “I believe Mr. Ports has sufficient vision to operate a commercial vehicle.” Mr. Ports reported that he has driven straight trucks for 17 years, accumulating 510,000 miles. He holds a Class C operator's license from Maryland. His driving record for the last 3 years shows no crashes and no convictions for moving violations in a CMV.

Robert A. Reyna

Mr. Reyna, 44, has complete loss of vision in his right eye due to an optic nerve injury sustained during a cornea transplant procedure. The visual acuity in his right eye is light perception and in the left, 20/15. Following an examination in 2006, his ophthalmologist noted, “In my medical opinion, Mr. Reyna has sufficient vision required to operate a commercial vehicle.” Mr. Reyna reported that he has driven straight trucks for 6 months, accumulating 1,200 miles, and tractor-trailer combinations for 3 years, accumulating 56,250 miles. He holds a Class A CDL from Utah. His driving record for the last 3 years shows no crashes and no convictions for moving violations in a CMV.

Scott K. Richardson

Mr. Richardson, 40, has had amblyopia in his left eye since birth. The best corrected visual acuity in his right eye is 20/20 and in the left, 20/400. Following an examination in 2006, his optometrist noted, “Mr. Richardson has sufficient central and peripheral vision with both eyes to perform the driving tasks to operate a commercial vehicle and has done so in the state of Ohio for the past 20 years.” Mr. Richardson reported that he has driven straight trucks for 20 years, accumulating 1.4 million miles, and tractor-trailer combinations for 5 months, accumulating 27,000 miles. He holds a Class A CDL from Ohio. His driving record for the last 3 years shows no crashes and no convictions for moving violations in a CMV.

Kyle C. Shover

Mr. Shover, 20, has a prosthetic left eye due to a congenital malformation called persistent hyperplastic primary vitreous. The best corrected visual acuity in his right eye is 20/20. Following an examination in 2006, his ophthalmologist noted, “It is my opinion that Mr. Shover has sufficient vision to perform the driving task required to operate a commercial vehicle.” Mr. Shover reported that he has driven straight trucks for 3 years, accumulating 60,000 miles. He holds a Class D operator's license from New Jersey. His driving record for the last 3 years shows no crashes and no convictions for moving violations in a CMV.

Charles H. Smith

Mr. Smith, 65, has a prosthetic left eye due to a traumatic injury sustained as a child. The best corrected visual acuity in his right eye is 20/20. Following an examination in 2006, his optometrist noted, “It is my medical opinion that Mr. Smith has sufficient vision to perform the driving tasks required to operate a commercial vehicle.” Mr. Smith reported that he has driven straight trucks for 24 years, accumulating 324,000 miles. He holds a Chauffeur's license from Indiana. His driving record for the last 3 years shows no crashes and no convictions for moving violations in a CMV.

Robert G. Springer

Mr. Springer, 69, has loss of vision in his left eye due to a traumatic injury sustained as a child. The visual acuity in his right eye is 20/20 and in the left, count-finger vision. Following an examination in 2006, his ophthalmologist noted, “I believe Robert Springer has the required visual acuity, and the required peripheral vision to perform the driving tasks required to operate a commercial vehicle.” Mr. Springer reported that he has driven straight trucks for 53 years, accumulating 265,000 miles, and tractor-trailer combinations for 49 years, accumulating 1.7 million miles. He holds a Class A CDL from Illinois. His driving record for the last 3 years shows no crashes and no convictions for a moving violation in a CMV.

Harry J. Stoever, Jr.

Mr. Stoever, 42, has had amblyopia in his right eye since birth. The best corrected visual acuity in his right eye is 20/50 and in the left, 20/20. Following an examination in 2006, his optometrist noted, “In my opinion, that Mr. Stoever has sufficient visual function to operate a commercial vehicle.” Mr. Stoever reported that he has driven straight trucks for 22 years, accumulating 121,000 miles. He holds a Class B CDL from New Jersey. His driving record for the last 3 years shows no crashes and no convictions for moving violations in a CMV.

Scott A. Taylor

Mr. Taylor, 35, has had amblyopia in his left eye since childhood. The best corrected visual acuity in his right eye is 20/20 and in the left, 20/60. Following an examination in 2006, his optometrist noted, “I, Dr. Eddie Pendergast, certify that in my medical opinion, Scott Taylor has sufficient vision to perform the driving tasks required to operate a commercial vehicle.” Mr. Taylor reported that he has driven straight trucks for 7 years, accumulating 280,000 miles, and tractor-trailer combinations for 11 years, accumulating approximately 1.6 million miles. He holds a Class A CDL from West Virginia. His driving record for the last 3 years shows no crashes and two convictions for moving violations, speeding in a CMV. He exceeded the speed limit by 10 miles mph on two occasions.

John E. Terrell

Mr. Terrell, 52, has had amblyopia in his right eye since birth. The best-corrected visual acuity in his right eye is 20/400 and in the left, 20/15. Following an examination in 2006, his ophthalmologist noted, “In my medical opinion, this patient has sufficient vision to perform driving tasks for a commercial vehicle.” Mr. Terrell reported that he has driven straight trucks for 6 years, accumulating 165,000 miles. He holds a Class B CDL from Georgia. His driving record for the last 3 years shows no crashes and no convictions for moving violations in a CMV.

Request for Comments

In accordance with 49 U.S.C. 31136(e) and 31315, FMCSA requests public comment from all interested persons on the exemption petitions described in this notice. The Agency will consider all comments received before the close of business March 28, 2007. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: February 13, 2007.
Larry W. Minor,
Office Director, Bus and Truck Standards and Operations.

[FR Doc. E7-3189 Filed 2-23-07; 8:45 am]

BILLING CODE 4910-EX-P